NATIONAL COMMISSION ON TERRORIST ATTACKS UPON THE UNITED STATES

National Commission on Terrorist Attacks Upon the United States; Public Hearing

ACTION: Notice of public hearing.

SUMMARY: The National Commission on Terrorist Attacks Upon the United States will hold its first public hearings on March 31 and April 1, 2003, in New York City. Public officials, representatives of 9/11 families, and other invited expert witnesses will testify. Representatives of the media are encouraged to register with the Commission in advance of the hearing. Seating for the general public will be on first come, first served basis.

DATES: March 31, 9 a.m.-4 p.m.; April 1, 9 a.m. to 3 p.m.

ADDRESSES: The Customs House, 1 Bowling Green, New York, NY 10001.

FOR FURTHER INFORMATION CONTACT: Al Felzenberg (202) 236-4878 and (202) 331-4077.

SUPPLEMENTARY INFORMATION: Please refer to Public Law 107-306 (November 27, 2002), title VI (legislative creating the Commission), and the Commission's Web site: www.9-11Commission.gov.

Dated: March 19, 2003.
Tracy J. Shycoff,
Director of Administration and Finance.

[FR Doc. 03-6924 Filed 3-21-03; 8:45 am]

BILLING CODE 8800-01-M